FEDERAL COMMUNICATIONS COMMISSION

47 CFR Parts 51 and 54

[CC Docket No. 95-20, FCC 99-387]

Computer III Further Remand Proceedings: Bell Operating Company Provision of Enhanced Services; Clarification

AGENCY: Federal Communications Commission.

ACTION: Clarification of final rule.

SUMMARY: This document grants in part and denies in part a petition to reconsider the Commission's Computer III Remand Order, stating that the Bell Operating Companies (BOCs) should no longer be required to file service-specific Comparably Efficient Interconnection (CEI) plans for information services that are offered on an integrated basis through the regulated entity and obtain approval of those plans prior to initiating or altering their intraLATA information services. This document clarifies that BOCs are obligated to post on their websites a complete copy of all their CEI plans.

EFFECTIVE DATE: May 24, 2000.

FOR FURTHER INFORMATION CONTACT: Ann Stevens, Attorney, Common Carrier Bureau, Policy and Program Planning Division, (202) 418-1580. Further information may also be obtained by calling the Common Carrier Bureau's TTY number: 202-418-0484.

SUPPLEMENTARY INFORMATION: This is a summary of the Commission's Order adopted December 9, 1999, and released December 17, 1999. The full text of this Order is available for inspection and copying during normal business hours in the FCC Reference Center, 445 12th Street, SW., Room CY-A257, Washington, DC. The complete text also may be obtained through the World Wide Web, at http://www.fcc.gov/Bureaus/CommonCarrier/ Orders/fcc99-387.wp, or may be purchased from the Commission's copy contractor, International Transcription Services, Inc. (202) 857-3800, 1231 20th Street, NW., Washington, DC 20036.

Regulatory Flexibility Certification

Bell Atlantic and SBC submitted comments on July 12, 1999 and CIX and BellSouth Corporation filed replies to the comments to the Commission's request for comment on its certification. In this present Order , the Commission promulgates no additional final rules, and our action does not affect the previous analysis.

Synopsis of Order on Reconsideration

1. In this Order, we address a petition for reconsideration or clarification of the Computer III Remand Order, CC Docket No. 95-20, FCC 99-387, filed by Commercial Internet eXchange Association (CIX).

2. The Commission concluded in that order that although the BOCs must continue to comply with their CEI obligations, they should no longer be required to file or obtain pre-approval of CEI plans and plan amendments before initiating or altering their intraLATA information services. Instead, we required the BOCs to “post on their publicly accessible Internet page, linked to and searchable from the BOCs main Internet page, their CEI plan for any new or altered intraLATA information service offering, and to notify the Common Carrier Bureau upon such posting.

3. CIX filed a petition for reconsideration or clarification of two aspects of two aspects of the Computer III Report and Order, 64 FR 14141 (3/24/99). CIX first asks that the Commission establish that incumbent LECs must disclose in advance and via their web sites the planned deployment of digital subscriber line access multiplexers (DSLAMs) on a wire-center basis, and provide adequate prior notice on the status of line conditioning for a given customer or group of customers. Information on the deployment of broadband telecommunications, CIX continues, should be available to all competing information services providers (ISPs), and should not be used as a means to favor the incumbent's affiliated ISP. CIX also asks that the Commission clarify that the BOCs are obligated to post a complete copy of all their CEI plans on their websites, so that all ISPs have ready information available concerning interconnection with the BOC's “last mile” network.

II. Discussion

4. The Commission has reviewed the initial request made by CIX in its petition—that we clarify our network information disclosure rules to require incumbent local exchange carriers to provide information regarding DSLAMs and line conditioning to ISPs. CIX essentially asks the Commission to clarify that section 251(c)(5) of the Communications Act and the rules implementing that section require disclosure of such information. We decline to do so. The Commission did not raise this issue in the Further Notice of Proposed Rulemaking in these dockets. Thus, the CIX request for clarification with regard to information on deployment of DSLAMs and line conditioning is beyond the scope of this proceeding. Accordingly, we deny that request for clarification on reconsideration.

5. CIX next requests that the Commission clarify that the BOCs are obligated to post on their websites a complete copy of all their CEI plans—rather than merely a copy of “new or altered” plans. We grant this request. It was not our intention in the Computer III Report and Order to exclude from the CEI posting requirement the BOCs' existing plans. As CIX notes in its petition, it is important for all CEI plans to be available on the BOCs' websites, including those previously filed plans. Otherwise, it would be difficult for the ISPs to get information regarding plans filed with the Commission under the prior CEI regime. Moreover, we do not believe that requiring the BOCs to post all their plans and plan amendments—both old and new—is unduly burdensome, especially given the benefit of having all these plans in one, easily accessible place. Accordingly, we clarify that the BOCs must post all their existing and new CEI plans and plan amendments on their Internet websites and notify the Common Carrier Bureau at the time of the posting.

III. Ordering Clause

6. The petition for reconsideration and clarification filed by the Commercial Internet eXchange Association IS GRANTED IN PART and IS DENIED IN PART, to the extent discussed above.

Federal Communications Commission
Magalie Roman Salas,
Secretary.

[FR Doc. 00-13039 Filed 5-23-00; 8:45 am]

BILLING CODE 6712-01-P